DEPARTMENT OF COMMERCE

National Oceanic and Atmospheric Administration

Proposed Information Collection; Comment Request; West Coast Region Federal Fisheries Permits—Northwest

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 26, 2019.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument and instructions should be directed to Jahnava Duryea at (916) 930-3725 or via email at jahnava.duryea@noaa.gov.

SUPPLEMENTARY INFORMATION:

I. Abstract

This request is for a revision and extension of a currently approved information collection.

The Magnuson-Stevens Act (16 U.S.C. 1801) provides that the Secretary of Commerce is responsible for the conservation and management of marine fisheries resources in the Exclusive Economic Zone (EEZ), 3-200 nautical miles off the United States (U.S.) coastline. NOAA Fisheries, Northwest Region manages the Pacific Coast Groundfish Fishery in the EEZ off Washington, Oregon, and California under the Pacific Coast Groundfish Fishery Management Plan. The regulations implementing the Pacific Groundfish Fishery require that those vessels participating in the limited entry fishery to be registered to a valid limited entry permit. Participation in the fishery and access to a limited entry permit has been restricted to control the overall harvest capacity.

NOAA Fisheries seeks comment on the extension of permit information collections required for: (1) Renewal and transfer of Pacific Coast Groundfish limited entry permits (LEPs); (2) implementation of certain provisions of the sablefish permit stacking program as provided for at 50 CFR 660.231 and 660.25; and (3) issuing and fulfilling the terms and conditions of certain exempted fishing permits (EFPs).

The regulations implementing the limited entry program are found at 50 CFR part 660, subpart G.

Also, NOAA Fisheries requires an information collection to implement certain aspects of the sablefish permit stacking program which prevents excessive fleet consolidation. As part of the annual renewal process, NOAA Fisheries requires a corporation or partnership that owns or holds (as vessel owner) a sablefish endorsed permit to provide a complete ownership interest form listing all individuals with ownership interest in the entity. Similarly, any sablefish endorsed permit transfer involving registration of a business entity requires an ownership interest form if either the permit owner or vessel owner is a corporation or partnership. This information is used to determine if individuals own or hold sablefish permits in excess of the limit of three permits. Also, for transfer requests made during the sablefish primary season (April 1st through October 31st), the permit owner is required to report the remaining tier pounds not yet harvested on the sablefish endorsed permit at the time of transfer.

Applicants for an EFP must submit written information that allows NOAA Fisheries and the Pacific Fishery Management Council to evaluate the proposed exempted fishing project activities and weigh the benefits and costs of the proposed activities. The Council makes a recommendation on each EFP application and for successful applicants, NOAA Fisheries issues the EFP which contains terms and conditions for the project including various reporting requirements. The information included in an application is specified at 50 CFR 600.745(b)(2) and the Council Operating Procedure #19. Permit holders are required to file preseason harvest plans, interim and/or final summary reports on the results of the project, and in some cases individual vessels and other permit holders are required to provide data reports (i.e., logbooks and/or catch reports). The results of EFPs are commonly used to explore ways to reduce effort on depressed stocks, encourage innovation and efficiency in the fishery, provide access to constrained stocks by directly measuring the bycatch associated with such strategies, and evaluate/revise current and proposed management measures.

Letters of Authorization (LOAs) and Exempted Educational Activity Authorizations (EEAAs) were historically collected under OMB control number 0648-0309. To reduce burden estimates, National Marine Fisheries Service (NMFS) Headquarters proposed to move LOAs and EEAAs to their respective region's permit family-of-forms collections.

NMFS may grant exemptions from fishery regulations for educational or other activities (e.g., using non-regulation gear). An EEAA is a permit issued by the Regional Office to accredited educational institutions that authorize, for educational purposes, the target or incidental harvest of species managed under a fisheries management plan or fishery regulations that would otherwise be prohibited. EEAAs are generally of limited scope and duration and authorize the take of the amount of fish necessary to demonstrate the lesson. Researchers are requested to submit reports of their scientific research activity after its completion.

LOAs are required under Section 101(a)(5)(A) of the Marine Mammal Protection Act (MMPA) of 1972 for the incidental take of marine mammals during fisheries surveys and related research activities conducted by the Northwest Fisheries Science Center (NWFSC), NMFS. Management of certain marine mammals falls under the jurisdiction of the NMFS under the MMPA and Endangered Species Act (ESA) and mechanisms exist under both the MMPA and ESA to assess the effect of incidental takings and to authorize appropriate levels of take.

II. Method of Collection

Renewal forms are mailed to all permit owners, which they must submit by mail or in person. Ownership interest forms and permit transfer forms are available from the region's website but must be submitted to NOAA Fisheries by mail or in person. Applications for an EFP must be submitted in a written format. The EFP data reports may be submitted in person, faxed, submitted by telephone or emailed by the monitor, plant manager, vessel owner, or operator to NOAA Fisheries or the states of Washington, Oregon, or California.

III. Data

OMB Control Number: 0648-0203.

Form Number(s): None.

Type of Review: Regular submission (revision and extension of a currently approved collection).

Affected Public: Non-profit institutions; State, local, or tribal government; business or other for-profit organizations.

Estimated Number of Respondents: 539.

Estimated Time per Response: Permit renewals: 20 minutes; Permit transfers: 30 minutes; Sablefish ownership interest form: 10 minutes; EFP Applications: 32 hours; EFP Trip Notifications: 2 minutes; EFP Harvest Plans: 16 hours; EFP Data Reports: 2 hours; EFP Summary Reports: Interim report, 4 hours; final report, 20 hours; Letters of Authorization: 6 hours; Exempted Educational Activities Authorizations, 6 hours.

Estimated Total Annual Burden Hours: 2,011 hours.

Estimated Total Annual Cost to Public: $56,468.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-13484 Filed 6-24-19; 8:45 am]

BILLING CODE 3510-22-P